INTERNATIONAL TRADE COMMISSION

[Investigation Nos. 701-TA-573-574 and 731-TA-1349-1358 (Review)]

Carbon and Certain Alloy Steel Wire Rod from Belarus, Italy, Russia, South Africa, South Korea, Spain, Turkey, Ukraine, the United Arab Emirates, and the United Kingdom

Determinations

On the basis of the record ¹ developed in the subject five-year reviews, the United States International Trade Commission (“Commission”) determines, pursuant to the Tariff Act of 1930 (“the Act”), that revocation of the countervailing duty orders on carbon and certain alloy steel wire rod from Italy and Turkey and the antidumping duty orders on carbon and certain alloy steel wire rod from Belarus, Italy, Russia, South Africa, South Korea, Spain, Turkey, Ukraine, the United Arab Emirates, and the United Kingdom would be likely to lead to continuation or recurrence of material injury to an industry in the United States within a reasonably foreseeable time.

¹ The record is defined in § 207.2(f) of the Commission's Rules of Practice and Procedure (19 CFR 207.2(f)).

Background

The Commission instituted these reviews on December 1, 2022 (87 FR 73789) and determined on March 6, 2023 that it would conduct expedited reviews (88 FR 22069, April 12, 2023).

The Commission made these determinations pursuant to section 751(c) of the Act (19 U.S.C. 1675(c)). It completed and filed its determinations in these reviews on July 27, 2023. The views of the Commission are contained in USITC Publication 5449 (August 2023), entitled Carbon and Certain Alloy Steel Wire Rod from Belarus, Italy, Russia, South Africa, South Korea, Spain, Turkey, Ukraine, the United Arab Emirates, and the United Kingdom: Investigation Nos. 701-TA-573-574 and 731-TA-1349-1358 (Review).

By order of the Commission.
Issued: July 27, 2023.
Sharon Bellamy,
Acting Supervisory Hearings and Information Officer.

[FR Doc. 2023-16394 Filed 8-1-23; 8:45 am]

BILLING CODE 7020-02-P